DEPARTMENT OF HEALTH AND HUMAN SERVICES

Centers for Disease Control and Prevention

[30Day-06-0621]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

National Youth Tobacco Survey (OMB No.: 0920-0621)—Reinstatement with Change—National Center for Chronic Disease Prevention and Health Promotion (NCCDPHP), Centers for Disease Control and Prevention (CDC).

Background and Brief Description

The purpose of this request is to reinstate OMB clearance of the National Youth Tobacco Survey, a national school-based study to be conducted in 2006. NCCDPHP wants to continue a biennial survey among middle and senior high school students attending regular public, private, and Catholic schools in grades 6-12. This survey was previously funded by the American Legacy Foundation in 1999, 2000, and 2002. The survey was funded by CDC in 2004. The survey covers the following tobacco-related topics: The prevalence of use of cigarettes, smokeless tobacco, cigars, pipe, bidis, and kreteks; knowledge and attitudes; media and advertising; minors' access and enforcement; school curriculum; environmental tobacco smoke exposure; and cessation. Tobacco use, a major preventable cause of morbidity and mortality in the U.S., is one of the 28 focus areas in Healthy People 2010. Within the Healthy People 2010 focus area of tobacco use, the National Youth Tobacco Survey provides data relevant to 6 health objectives. The survey also provides data to monitor one of the 10 leading health indicators for Healthy People 2010 that addresses tobacco use. In addition, the National Youth Tobacco Survey can identify racial and ethnic disparities in tobacco-related topics listed above.

The National Youth Tobacco Survey is the most comprehensive source of nationally representative data regarding high school students and tobacco. Moreover, the National Youth Tobacco Survey is the only source of such national data for middle school students (grades 6-8). The data have significant implications for policy and program development for school and community health programs nationwide. There is no other cost to respondents other than their time. The total annual burden hours is 18,643.

Estimate of Annualized Burden Hours
Respondents | Number of respondents | Number of responses per respondent | Average burden per response (in hours)
Students | 24,500 | 1 | 45/60
State and School Education Officials | 537 | 1 | 30/60

Dated: November 8, 2005.
Betsey Dunaway,
Acting Reports Clearance Officer, Centers for Disease Control and Prevention.

[FR Doc. 05-22714 Filed 11-15-05; 8:45 am]

BILLING CODE 4163-18-P